DEPARTMENT OF THE INTERIOR

National Park Service

[NPS-WASO-NAGPRA-NPS0035957; PPWOCRADN0-PCU00RP14.R50000]

Notice of Inventory Completion: Minnesota Indian Affairs Council, St. Paul, MN

AGENCY: National Park Service, Interior.

ACTION: Notice.

SUMMARY: In accordance with the Native American Graves Protection and Repatriation Act (NAGPRA), the Minnesota Indian Affairs Council (MIAC) has completed an inventory of human remains and associated funerary objects and has determined that there is a cultural affiliation between the human remains and associated funerary objects and Indian Tribes or Native Hawaiian organizations in this notice. The human remains and associated funerary objects were removed from Aitkin, Cass, Hubbard, Kanabec, Ottertail, and Todd Counties, MN.

DATES: Repatriation of the human remains and associated funerary objects in this notice may occur on or after July 3, 2023.

ADDRESSES: Dylan Goetsch, Minnesota Indian Affairs Council, 161 St. Anthony Avenue, Suite 919, St. Paul, MN 55103, email dylan.goetsch@state.mn.us.

SUPPLEMENTARY INFORMATION: This notice is published as part of the National Park Service's administrative responsibilities under NAGPRA. The determinations in this notice are the sole responsibility of the Minnesota Indian Affairs Council. The National Park Service is not responsible for the determinations in this notice. Additional information on the determinations in this notice, including the results of consultation, can be found in the inventory or related records held by the Minnesota Indian Affairs Council.

Description

At an unknown date, human remains representing, at minimum, three individuals were removed from Aitkin County, MN. The individuals were recovered by the homeowner during the construction of a house on Big Sandy Lake at the William Alexander Aitkin Fur Post site, which is situated within the Savana Portage State Park. In 1983, the homeowner donated the human remains and other artifacts from the property to a local historian. In 1988, the human remains and other artifacts were loaned to the Savannah Portage State Park (Minnesota Department of Natural Resources). In October of 1992, the Savannah Portage State Park did an inventory of the collection and transferred these human remains and funerary objects associated with them to the Minnesota Indian Affairs Council (H217). No known individuals were identified. The 24 associated funerary objects include sand, tin pail fragments, bark with vermillion, linen or cotton fabric, felt or wool fabric, leather, twisted cord, silver fragments (jewelry), a carved wooden stick, a wood fragment with cloth attached, black felt fabric, felt fabric with beads, braided hair, square nails, woven bark, rigs, wool fabric, a small silver or brass ring, a silver ribbon ring, a leather braid tie, wood fragments, small fragments of silver broaches, a small tied cloth object, woven fabric, and metal tinklers.

In July of 1966, human remains representing, at minimum, one individual were removed by a private citizen from an eroding bank at 21-AK-04, the Sandy Lake Northwest Company Post in Aitkin County, MN. In 1995, these human remains were transferred to the Minnesota Indian Affairs Council (H295). No known individual was identified. The 26 associated funerary objects include copper coils, hair, white shell beads, a white glass bead, metal fragments, faunal remains, a fur and cloth object, a cloth and metal object, and soil.

At an unknown time, human remains representing, at minimum, one individual were removed during road construction near Upper Rice Lake from Aitkin County, MN. The human remains were transferred to MIAC on November 8, 2007. A note with the human remains indicates they were initially given to a Dr. Brook by Gil (Gilbert) George of St. Paul and received the accession number 732. The note also indicates that a rifle and cartridge case were buried with the human remains, but those items were not transferred to MIAC or referenced in any other notes. No known individual was identified. No associated funerary objects are present.

On August 21, 2015, human remains representing, at minimum, one individual were removed during construction activities from the City of Lake Shore in Cass County, MN, and sent to the Ramsey County Medical Examiner's Office (2015-2084). On September 25, 2015, the human remains were transferred to the Minnesota Indian Affairs Council (H488). These human remains belong to an adult male. No known individual was identified. No associated funerary objects are present.

Between 1984 and the mid-1990s, human remains representing, at minimum, one individual were removed by unknown persons from an area near the Fish Hook River, close to the city of Park Rapids, in Hubbard County, MN. Subsequently, these human remains were relinquished to Alan Brew, a Professor at Bemidji State University. On November 15, 2007, the human remains were transferred to the Minnesota Indian Affairs Council (H437). No known individual was identified. The 69 associated funerary objects include navy blue, pink, white/cream seed beads and three sherds of a white and blue earthenware cup.

In August of 1971, human remains representing, at minimum, one individual were removed by Saint Cloud State University from an unspecified location on Knife Lake in Kanabec County, MN. In February of 2006, Saint Cloud State University transferred these human remains together with associated funerary objects to the Minnesota Indian Affairs Council (H417). No known individual was identified. The 3,876 associated funerary objects include one copper or brass ring associated with a hand phalanx, one ceramic button, one metal shank button, and 3,873 funerary objects consisting of seed beads, tubular beads, flat beads, black fabric, red fabric, brown fabric, metal pieces, leather fragments, coffin wood, and birch bark fragments.

In 2021, human remains representing, at minimum, one individual were removed from Ottertail County, MN. Construction workers fixing a damaged shed unearthed the human remains via a small trench. Local law enforcement responded to the scene and began an investigation. Locals who had heard of the incident contacted the Minnesota Indian Affairs Council. MIAC visited the site with law enforcement. Law Enforcement determined the human remains to be Native American and transferred them to the Minnesota Indian Affairs Council. No known individual was identified. No associated funerary objects are present.

In August of 1993, May and November of 1995, and July of 1996, human remains representing, at minimum, four individuals were removed by the Office of the State Archaeologist eroding from a bank along the Northeast shore of Otter Tail Lake, in Ottertail County, MN (site 21-OT-110, Peterson Burials). In 1993, 1995, and 1996, these human remains were transferred to the Minnesota Indian Affairs Council (H243, H293). No known individuals were identified. The 200 associated funerary objects include two thin metal bands (possibly belonging a wedding band); one quartz bipolar flake; one small buckle; and 196 funerary objects consisting of coffin hardware, wood, and nails; faunal remains; buttons; cloth fragments; and soil samples.

On October 26, 1995, human remains representing, at minimum, two individuals were removed during construction activities under a road near Lake Osakis in Todd County, MN. The Osakis Police Department were notified, and the human remains were turned over to the Ramsey County Medical Examiner's Office. On October 30, 1995, the human remains were transferred to the Minnesota Indian Affairs Council (H299). On January 11, 1996, additional human remains belonging to these individuals were transferred to the Minnesota Indian Affairs Council from the Office of the State Archaeologist following their investigation of the site. No known individuals were identified. The two associated funerary objects are patinated brass tinkers or jingle cones.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological, archeological, biological, folkloric, geographical, historical, oral traditional, and other relevant information or expert opinion.

Determinations

Pursuant to NAGPRA and its implementing regulations, and after consultation with the appropriate Indian Tribes and Native Hawaiian organizations, the Minnesota Indian Affairs Council has determined that:

• The human remains described in this notice represent the physical remains of 15 individuals of Native American ancestry.

• The 4,197 objects described in this notice are reasonably believed to have been placed with or near individual human remains at the time of death or later as part of the death rite or ceremony.

• There is a relationship of shared group identity that can be reasonably traced between the human remains and associated funerary objects described in this notice and the Minnesota Chippewa Tribe, Minnesota (Six component reservations: Bois Forte Band (Nett Lake); Fond du Lac Band; Grand Portage Band; Leech Lake Band; Mille Lacs Band; White Earth Band) and the Red Lake Band of Chippewa Indians, Minnesota.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after July 3, 2023. If competing requests for repatriation are received, the Minnesota Indian Affairs Council must determine the most appropriate requestor prior to repatriation. Requests for joint repatriation of the human remains and associated funerary objects are considered a single request and not competing requests. The Minnesota Indian Affairs Council is responsible for sending a copy of this notice to the Indian Tribes identified in this notice.

Authority: Native American Graves Protection and Repatriation Act, 25 U.S.C. 3003, and the implementing regulations, 43 CFR 10.9, 10.10, and 10.14.

Dated: May 24, 2023.
Melanie O'Brien,
Manager, National NAGPRA Program.

[FR Doc. 2023-11689 Filed 5-31-23; 8:45 am]

BILLING CODE 4312-52-P